NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites 1 public comments on such records schedules, as required by 44 U.S.C. 3303a(a).

DATES: Requests for copies must be received in writing on or before June 24, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Agency-wide (N1-AFU-02-9, 96 items, 96 temporary items). Electronic versions of temporary records relating to developmental engineering, acquisition, contracting, and financial management. Included are electronic copies of documents created using electronic mail and word processing as well as electronic records that supplement or replace paper records already approved for disposal. Records relate to such matters as industrial equipment, supply quality assurance, purchase requests, contract performance, contractor personnel, and the tracking and status of audits.

2. Department of the Air Force, Agency-wide (N1-AFU-02-10, 72 items, 72 temporary items). Electronic versions of temporary records relating to security and law enforcement, medical matters, chaplain activities, historical and museum programs, and command policy. Included are electronic copies of documents created using electronic mail and word processing as well as electronic records that supplement or replace paper records already approved for disposal. Records relate to such matters as information security activities, facilities security, veterinary services, nursing, dental x-rays, chaplain funds, historical research and reference, museum operations, inspector general administrative reports, inspection checklists, and congressional travel.

3. Department of the Air Force, Agency-wide (N1-AFU-02-11, 73 items, 73 temporary items). Electronic versions of temporary records relating to personnel matters. Included are electronic copies of documents created using electronic mail and word processing as well as electronic records that supplement or replace paper records already approved for disposal. Records relate to such matters as financial disclosure reporting, drug abuse treatment programs, the issuance of passes and other credentials, personnel strength reporting, family support programs, recruitment activities, re-enlistment and retention, and promotion actions.

4. Department of the Air Force, Agency-wide (N1-AFU-02-12, 78 items, 78 temporary items). Electronic versions of temporary records relating to personnel matters. Included are electronic copies of documents created using electronic mail and word processing as well as electronic records that supplement or replace paper records already approved for disposal. Records relate to such matters as overall civilian personnel management policies and procedures, staffing of civilian positions, personnel selection and placement, career development, performance appraisals, position classification, honors and awards, family services programs, and the training of uniformed personnel.

5. Department of Commerce, National Oceanic and Atmospheric Administration (N1-370-02-1, 3 items, 3 temporary items). Records documenting market surveys and statistics relating to fish and the fishery industry. Included are statistical data files, survey operations files, and electronic copies of records created using electronic mail and word processing.

6. Department of Defense, Defense Threat Reduction Agency (N1-374-02-2, 10 items, 5 temporary items). Administrative correspondence and memorandums, electronic calendars, and an electronic correspondence tracking system accumulated by the Office of the Director. Also included are electronic copies of documents created using electronic mail and word processing. Proposed for permanent retention are recordkeeping copies of speech transcripts, briefing materials, calendars, policy and precedent files, and mission-related chronological files.

7. Department of Energy, Spent Nuclear Fuels Program (N1-434-01-3, 8 items, 8 temporary items). Records relating to offsite storage facilities, the licensing of independent spent fuel storage installations, proposed shipments that never were sent, and the support of spent fuels programs. Also included are electronic copies of documents created using electronic mail and word processing.

8. Department of the Navy, Agency-wide (N1-NU-02-6, 6 items, 4 temporary items). Records relating to the Alcohol and Drug Management Information Tracking System, a database containing information about individuals treated for abuse of drugs or alcohol. Included are source documents, output summary reports, and other output records. Also included are electronic copies of documents created by using electronic mail and word processing. Proposed for permanent retention are the electronic master files and the technical documentation relating to the system.

9. Department of State, Bureau of Political-Military Affairs (N1-59-01-19, 12 items, 8 temporary items). Records of the Office of Contingency Planning and Peacekeeping relating to interagency exercises and the office's weekly activities. Also included are electronic copies of documents created using electronic mail and word processing. Proposed for permanent retention are recordkeeping copies of subject files, regional/country files, political-military plans, and complex contingency operation files.

10. Department of Transportation, Federal Aviation Administration (N1-237-01-2, 10 items, 10 temporary items). Records of the Office of Aviation Medicine relating to the development and implementation of drug and alcohol abuse prevention programs. Included are records relating to such matters as random drug testing, program certifications, the approval of plans, and investigations and inspections. Also included are electronic copies of documents created using electronic mail and word processing.

11. Executive Office of the President, Office of Management and Budget (N1-51-02-1, 6 items, 2 temporary items). Electronic copies of documents created using word processing relating to legislation. Recordkeeping copies of public and private legislation files are proposed for permanent retention.

12. Federal Reserve System, Board of Governors (N1-82-02-1, 34 items, 33 temporary items). Records relating to Board oversight of Reserve Bank operations and services, including such matters as examinations and reviews of Reserve Banks, financial accounting, currency orders, Reserve Bank budgeting, equipment and facilities acquisition, and human resources activities. Also included are electronic copies of documents created using electronic mail and word processing. Proposed for permanent retention are architectural and engineering plans for Federal Reserve Bank buildings.

Dated: May 6, 2002.
Michael J. Kurtz,
Assistant Archivist for Record Services—Washington, DC.

[FR Doc. 02-11728 Filed 5-9-02; 8:45 am]

BILLING CODE 7515-01-P